DEPARTMENT OF DEFENSE

GENERAL SERVICES ADMINISTRATION

NATIONAL AERONAUTICS AND SPACE ADMINISTRATION

[OMB Control No. 9000-0161; Docket No. 2016-0053; Sequence No. 37]

Submission for OMB Review; Reporting Purchases From Sources Outside the United States

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a currently approved information collection requirement concerning reporting purchases from sources outside the United States. A notice was published in the Federal Register at 81 FR on 76357 on November 2, 2016. No comments were received.

DATES: Submit comments on or before March 17, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for “9000-0161; Reporting of Purchases from Outside the United States”. Select the link “Submit a Comment” that corresponds with “9000-0161; Reporting of Purchases from Outside the United States”. Follow the instructions provided at the “Submit a Comment” screen. Please include your name, company name (if any), and 9000-0161; Reporting of Purchases from Outside the United States” on your attached document.

• Mail: General Services Administration, Regulatory Secretariat Division (MVCB), 1800 F Street NW., Washington, DC 20405. ATTN: Ms. Flowers/IC 9000-0161.

Instructions: Please submit comments only and cite IC 9000-0161, in all correspondence related to this case. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, at 202-219-0202 or via email at cecelia.davis@gsa.gov.

SUPPLEMENTARY INFORMATION:

A. Purpose

The information on place of manufacture was formerly used by each Federal agency to prepare a report to Congress required by 41 U.S.C. 8302(b)(1) for FY 2009 through 2011 on acquisitions of articles, materials, or supplies that are manufactured outside the United States. However, the data is still necessary for analysis of the application of the Buy American statute and the trade agreements and for other reports to Congress. Additionally, contracting officers require this data as the basis for entry into the Federal Procurement Data System for further data on the rationale for purchasing foreign manufactured items.

B. Annual Reporting Burden

Number of respondents: 48,215.

Responses per respondent: 30.77034.

Total annual responses: 1,483,592.

Hours per response: 0.01.

Total response burden hours: 14,836.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control Number 9000-0161, Reporting Purchases from Sources Outside the United States, in all correspondence.

Dated: February 10, 2017.
Lorin S. Curit,
Director, Federal Acquisition Policy Division, Office of Government-wide Acquisition Policy, Office of Acquisition Policy, Office of Government-wide Policy.

[FR Doc. 2017-03024 Filed 2-14-17; 8:45 am]

BILLING CODE 6820-EP-P